DEPARTMENT OF ENERGY

Federal Energy Regulatory Commission

[Project No. 2669-089]

Bear Swamp Power Company, LLC; Notice of Availability of Environmental Assessment

In accordance with the National Environmental Policy Act of 1969 and the Federal Energy Regulatory Commission's (Commission) regulations, 18 CFR part 380, the Office of Energy Projects has reviewed the application for license for the Bear Swamp Project, located on the Deerfield River, in Berkshire and Franklin Counties, Massachusetts, and has prepared a Final Environmental Assessment (FEA) for the project.

The FEA contains staff's analysis of the potential environmental impacts of the project and concludes that licensing the project, with appropriate environmental protective measures, would not constitute a major federal action that would significantly affect the quality of the human environment.

The Commission provides all interested persons with an opportunity to view and/or print the FEA via the internet through the Commission's Home Page (http://www.ferc.gov) using the “eLibrary” link. Enter the docket number, excluding the last three digits in the docket number field, to access the document. At this time, the Commission has suspended access to the Commission's Public Reference Room, due to the proclamation declaring a National Emergency concerning the Novel Coronavirus Disease (COVID-19), issued by the President on March 13, 2020. For assistance, contact FERC Online Support at FERCOnlineSupport@ferc.gov or toll-free at (866) 208-3676, or for TTY, (202) 502-8659.

You may also register online at https://ferconline.ferc.gov/eSubscription.aspx to be notified via email of new filings and issuances related to this or other pending projects. For assistance, contact FERC Online Support.

For further information, contact Amy Chang at (202) 502-8250, or at amy.chang@ferc.gov.

Dated: July 31, 2020.
Kimberly D. Bose,
Secretary.

[FR Doc. 2020-17187 Filed 8-5-20; 8:45 am]

BILLING CODE 6717-01-P